ENVIRONMENTAL PROTECTION AGENCY

[FRL-8747-4]

Science Advisory Board Staff Office; Notification of a Public Teleconference of the Clean Air Scientific Advisory Committee (CASAC)

AGENCY: Environmental Protection Agency (EPA).

ACTION: Notice.

SUMMARY: The Environmental Protection Agency (EPA) Science Advisory Board (SAB) Staff Office announces a public teleconference of the chartered Clean Air Scientific Advisory Committee (CASAC) to consider and approve the CASAC Panel's draft report regarding its peer review of EPA's Risk and Exposure Assessment for Review of the Secondary National Ambient Air Quality Standards for Oxides of Nitrogen and Oxides of Sulfur: First Draft (August 2008). The CASAC will also discuss the Agency's schedule and process for National Ambient Air Quality Standards (NAAQS) review of criteria pollutants with EPA's Office of Air and Radiation and Office (OAR) and Office of Research and Development (ORD).

DATES: The public teleconference will be held on Friday, December 19, 2008 from 12 p.m. to 3 p.m. (Eastern Time).

Location: The public teleconference will be conducted by telephone only.

FOR FURTHER INFORMATION CONTACT: Any member of the public who wants further information concerning the teleconference meeting may contact Dr. Holly Stallworth, Designated Federal Officer (DFO), EPA Science Advisory Board (1400F), U.S. Environmental Protection Agency, 1200 Pennsylvania Avenue, NW., Washington, DC 20460; via telephone/voice mail (202) 343-9867; fax (202) 233-0643; or e-mail at stallworth.holly@epa.gov. General information concerning the CASAC can be found on the EPA Web site at http://www.epa.gov/casac.

SUPPLEMENTARY INFORMATION:

Background: The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC is a Federal advisory committee chartered under the Federal Advisory Committee Act (FACA), as amended, 5 U.S.C., App. The Panel will comply with the provisions of FACA and all appropriate SAB Staff Office procedural policies.

Section 109(d)(1) of the CAA requires that the Agency periodically review and revise, as appropriate, the air quality criteria and the NAAQS for the six “criteria” air pollutants, including Nitrogen Oxide (NOX) and Sulfur Oxides (SOX). EPA is in the process of reviewing the secondary NAAQS for NOX and SOX. Welfare effects as defined in the CAA include, but are not limited to, effects on soils, water, wildlife, vegetation, visibility, weather, and climate, as well as effects on materials, economic values, and personal comfort and well-being. As part of that process, EPA's OAR completed the Risk and Exposure Assessment (REA) for Review of the Secondary National Ambient Air Quality Standards for Oxides of Nitrogen and Oxides of Sulfur: First Draft (August 2008). The CASAC NOX and SOX Secondary National Ambient Air Quality Standards (NAAQS) Review Panel held a public meeting on October 1-2, 2008 to conduct a peer review of EPA's first draft REA. The panel discussed its draft letter report on November 19, 2008. The purpose of this conference call is for the chartered CASAC to review and approve the Panel's draft letter. In addition, CASAC will also publicly discuss the entire NAAQS schedule and process with EPA's Office OAR and ORD.

Technical Contacts: Any questions concerning EPA's Risk and Exposure Assessment for Review of the Secondary National Ambient Air Quality Standards for Oxides of Nitrogen and Oxides of Sulfur: First Draft should be directed to Dr. Anne Rea, OAR, at (919) 541-0053 or rea.anne@epa.gov.

Availability of Meeting Materials: EPA-Risk and Exposure Assessment for Review of the Secondary National Ambient Air Quality Standards for Oxides of Nitrogen and Oxides of Sulfur: First Draft can be accessed at http://www.epa.gov/ttn/naaqs/standards/no2so2sec/cr_rea.html. The Panel's draft letter and the CASAC agenda for the teleconference will be posted in advance of the meeting on the SAB Web site at http://www.epa.gov/casac.

Procedures for Providing Public Input: Interested members of the public may submit relevant written or oral information for consideration on the topics included in this advisory activity. Oral Statements: To be placed on the public speaker list for the December 19, 2008 teleconference, interested parties should notify Dr. Holly Stallworth, DFO, by e-mail no later than December 12, 2008. Individuals making oral statements will be limited to three minutes per speaker. Written Statements: Written statements for the December 19, 2008 teleconference should be received in the SAB Staff Office by December 12, 2008, so that the information may be made available to the CASAC Panel for its consideration prior to this meeting. Written statements should be supplied to the DFO in the following formats: One hard copy with original signature and one electronic copy via e-mail (acceptable file format: Adobe Acrobat PDF, MS Word, WordPerfect, MS PowerPoint, or Rich Text files in IBM-PC/Windows 98/2000/XP format).

Accessibility: For information on access or services for individuals with disabilities, please contact Dr. Stallworth at the phone number or e-mail address noted above, preferably at least ten days prior to the face-to-face meeting, to give EPA as much time as possible to process your request.

Dated: November 24, 2008.
Anthony F. Maciorowski,
Deputy Director, EPA Science Advisory Board Staff Office.

[FR Doc. E8-28453 Filed 11-28-08; 8:45 am]

BILLING CODE 6560-50-P